DEPARTMENT OF ENERGY

Federal Energy Regulatory Commission

[Docket No. RP03-297-000]

MIGC, Inc.; Notice of Tariff Filing

March 12, 2003.

Take notice that on May 6, 2003, MIGC, Inc. (MIGC) tendered for filing as part of its FERC Gas Tariff, First Revised Volume No.1, the following tariff sheets, to become effective May 1, 2003.

First Revised Sheet No. 2

First Revised Sheet No. 34

Second Revised Sheet No. 37

Fourth Revised Sheet No. 48

Fourth Revised Sheet No. 49

First Revised Sheet No. 49A

Fifth Revised Sheet No. 50

Seventh Revised Sheet No. 51

Sixth Revised Sheet No. 52

Fourth Revised Sheet No. 52A

Third Revised Sheet No. 54

Sixth Revised Sheet No. 66

Second Revised Sheet No. 66A

Third Revised Sheet No. 69

Third Revised Sheet No. 70

Fourth Revised Sheet No. 74

Third Revised Sheet No. 81

Original Sheet No. 81A

First Revised Sheet No. 84A

Fourth Revised Sheet No. 90A

Second Revised Sheet No. 90C

Original Sheet No. 90G

Original Sheet No. 90H

Third Revised Sheet No. 115

MIGC asserts that the purpose of this filing is to update MIGC's tariff to provide MIGC with more flexibility to enhance Shipper rights on a not unduly discriminatory basis, to allow MIGC to more effectively manage imbalances and measurement equipment on its system and to make effective certain housekeeping changes. Specifically, MIGC proposes the following revisions:

Authorize MIGC to waive any provisions of its effective tariff regarding MIGC rights or Shipper obligations for good cause and on a basis which is not unduly discriminatory.

Allow MIGC the flexibility to offer early contract terminations or reduction for all Shippers on a not unduly discriminatory basis.

Allow MIGC the flexibility to bear costs associated with constructing new interconnects.

Add tariff language providing for the purchase and sale of gas supply by MIGC for the purpose of maintaining system balance and operating pressures as previously approved in Docket No. RP97-416.

Revise cash out formula to provide for the cash out of all imbalances.

Provide that measurement facilities shall be installed, owned, maintained and operated by MIGC, unless agreed to otherwise.

Make several housekeeping revisions.

MIGC states that copies of the filing are being served on all jurisdictional customers and interested state commissions.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: March 18, 2003.

Magalie R. Salas,
Secretary.

[FR Doc. 03-6540 Filed 3-18-03; 8:45 am]

BILLING CODE 6717-01-P